ENVIRONMENTAL PROTECTION AGENCY

[FRL-9629-7]

Notification of Three Public Teleconferences of a Work Group of the Chartered Science Advisory Board

AGENCY: Environmental Protection Agency (EPA).

ACTION: Notice.

SUMMARY: The EPA Science Advisory Board (SAB) Staff Office announces three public teleconferences of a work group of the Chartered Science Advisory Board to discuss the President's FY 2013 Budget Request for the EPA Office of Research and Development.

DATES: The teleconference dates and times are March 1, 2012, from 1 p.m. to 4 p.m. (Eastern Time); March 2, 2012 from 10 a.m. to 1 p.m. (Eastern Time); and March 8, 2012 from 10 a.m. to 1 p.m. (Eastern Time).

ADDRESSES: The public teleconferences will be held by telephone only.

FOR FURTHER INFORMATION CONTACT: Any member of the public wishing to obtain general information concerning this public meeting should contact Dr. Angela Nugent, Designated Federal Officer (DFO), EPA Science Advisory Board (1400R), 1200 Pennsylvania Ave. NW., Washington, DC 20460; via telephone/voice mail: (202) 564-2218; fax: (202) 565-2098; or email at nugent.angela@epa.gov. General information concerning the EPA Science Advisory Board can be found on the SAB Web site at http://www.epa.gov/sab.

SUPPLEMENTARY INFORMATION: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that a work group of the chartered SAB will hold three public teleconferences to discuss the President's requested Fiscal Year 2013 Budget to support EPA research needs. The SAB work group and the SAB will comply with the provisions of FACA and all appropriate SAB Staff Office procedural policies.

Background: The chartered SAB has conducted a review of the EPA research budget annually and provides written comments to the EPA Administrator and to Congress, as requested, on the adequacy of EPA's requested research budget. At the teleconference on March 1, 2012, a work group of the chartered SAB will receive briefings on the requested research budget for Fiscal Year 2012. At the teleconference on March 2, 2012, the work group will develop review comments. At the teleconference on March 8, 2012, the work group will discuss a draft report that will receive additional review by the full chartered SAB at a date to be announced in the Federal Register.

Availability of Meeting Materials: The agenda and other materials in support of the meeting will be placed on the SAB Web site at http://www.epa.gov/sab in advance.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments pertaining to EPA's charge, meeting materials and/or the group conducting the activity. They should send their comments directly to the DFO for the relevant advisory committee. Oral Statements: In general, individuals or groups requesting an oral presentation at a public teleconference will be limited to three minutes per speaker. Interested parties should contact Dr. Nugent, DFO, in writing (preferably via email) at the contact information noted above by February 24, 2012 to be placed on a list of public speakers for the meeting. Written Statements: Written statements should be received in the SAB Staff Office by February 24, 2012 so that the information may be made available to the chartered SAB members for their consideration and placed on the SAB Web site for public information. Written statements should be supplied to the DFO in the following formats: one hard copy with original signature, and one electronic copy via email (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Angela Nugent at (202) 564-2218, or nugent.angela@epa.gov. To request accommodation of a disability, please contact Dr. Nugent, preferably at least 10 days prior to the meeting, to give EPA as much time as possible to process your request.

Dated: January 31, 2012.
Thomas H. Brennan,
Deputy Director, EPA Science Advisory Board Staff Office.

[FR Doc. 2012-3011 Filed 2-8-12; 8:45 am]

BILLING CODE 6560-50-P